DEPARTMENT OF AGRICULTURE

Rural Housing Service

Notice of Funding Availability (NOFA) for Section 515 Rural Rental Housing Funds and Section 521 Rental Assistance for Needs Resulting From Hurricanes Dennis, Floyd, and Irene

AGENCY: Rural Housing Service (RHS), USDA.

ACTION: Notice.

SUMMARY: This NOFA announces the availability of section 515 new construction and repair funds and section 521 rental assistance (RA) to meet needs resulting from hurricanes Dennis, Floyd, and Irene. This document describes the eligibility and submission requirements, the criteria that will be used to select requests for further processing, and the deadline for submitting applications.

DATES: The closing deadline for receipt of applications in response to this NOFA is 5 p.m., local time for each Rural Development State office on October 17, 2000. The application deadline is firm as to date and hour. Applicants intending to mail applications must provide sufficient time to permit delivery on or before the closing deadline date and time. Acceptance by a post office or private mailer does not constitute delivery. Facsimile (FAX) and postage due applications will not be accepted. Notwithstanding this deadline, applicants who are prevented from filing by the time limit because of hurricanes Dennis, Floyd, and Irene may submit applications in accordance with the procedures described in Section V, “Administrator's Reserve Requests.”

ADDRESSES: Applicants wishing to apply for assistance must contact the Rural Development State office serving the community for which they desire to submit an application to receive further information and copies of the application package. Rural Development will date and time stamp incoming applications to evidence timely receipt, and, upon request, will provide the applicant with a written acknowledgment of receipt. Following is a list of states with counties that were declared disaster areas as a result of hurricanes Dennis, Floyd, and Irene by the Federal Emergency Management Agency (FEMA), the Rural Development State Office address, telephone number, and person to contact:

Note: Telephone numbers listed are not toll-free.

Connecticut (Served by Massachusetts State Office), 451 West Street, Amherst, MA 01002, (413) 253-4333, TDD (413) 253-7068, Donald Colburn

Delaware and Maryland State Office, 5201 South Dupont Highway, PO Box 400, Camden, DE 19934-9998, (302) 697-4353, TDD (302) 697-4303, Pat Baker

Florida State Office, 4440 N.W. 25th Place, PO Box 147010, Gainesville, FL 32614-7010, (352) 338-3465, TDD (352) 338-3499, Joseph P. Fritz

Maine State Office, 967 Illinois Ave., Suite 4, PO Box 405, Bangor, ME 04402-0405, (207) 990-9115, TDD (207) 942-7331, Dale D. Holmes

Maryland (See Delaware and Maryland State Office), New Hampshire State Office, Concord Center, Suite 218, Box 317, 10 Ferry Street, Concord, NH 03301-5004, (603) 223-6046, TDD (603) 229-0536, Jim Fowler

New Jersey State Office, Tarnsfield Plaza, Suite 22, 790 Woodland Road, Mt. Holly, NJ 08060, (609) 265-3631, TDD (609) 265-3687, George Hyatt, Jr.

New York State Office, The Galleries of Syracuse, 441 S. Salina Street, Suite 357, Syracuse, NY 13202, (315) 477-6419, TDD (315) 477-6447, George N. Von Pless

North Carolina State Office, 4405 Bland Road, Suite 260, Raleigh, NC 27609, (919) 873-2062, TDD (919) 873-2003, Eileen Nowlin

Pennsylvania State Office, One Credit Union Place, Suite 330, Harrisburg, PA 17110-2996, (717) 237-2281, TDD (717) 237-2261, Gary Rothrock

South Carolina State Office, Strom Thurmond Federal Building, 1835 Assembly Street, Room 1007, Columbia, SC 29201, (803) 765-3432, TDD (803) 765-5697, Larry D. Floyd

Vermont State Office, City Center, 3rd Floor, 89 Main Street, Montpelier, VT 05602, (802) 828-6028, TDD (802) 223-6365, Sandra Mercier

Virginia State Office, Culpeper Building, Suite 238, 1606 Santa Rosa Road, Richmond, VA 23229, (804) 287-1582, TDD (804) 287-1753, Carlton Jarratt

FOR FURTHER INFORMATION CONTACT: For general information, applicants may contact Linda Armour, Senior Loan Officer, Multi-Family Housing Processing Division, Rural Housing Service, United States Department of Agriculture, Stop 0781, 1400 Independence Avenue, SW, Washington, DC, 20250, telephone (202) 720-1753 (voice) (this is not a toll free number) or (800) 877-8339 (TDD-Federal Information Relay Service).

SUPPLEMENTARY INFORMATION:

Programs Affected

The Rural Rental Housing program is listed in the Catalog of Federal Domestic Assistance under Number 10.415, Rural Rental Housing Loans. Rental Assistance is listed in the Catalog under Number 10.427, Rural Rental Assistance Payments.

Discussion of Notice

I. Authority and Distribution Methodology

A. Authority

Section 515 of the Housing Act of 1949 (42 U.S.C. 1485) provides RHS with the authority to make loans to any individual, corporation, association, trust, Indian tribe, public or private nonprofit organization, consumer cooperative, or partnership, to provide rental or cooperative housing and related facilities in rural areas for very-low, low, or moderate income persons or families, including elderly persons and persons with disabilities. Rental assistance (RA) is a tenant subsidy for very-low and low-income families residing in rural rental housing facilities with RHS financing and may be requested with applications for such facilities.

B. Section 515 funds for needs resulting from hurricanes Dennis, Floyd, and Irene

A total of $34,000,000 is available for applications received under this NOFA for needs resulting from hurricanes Dennis, Floyd, and Irene. Applications received in response to this NOFA will be processed as follows:

1. New Construction Requests

New construction requests may be submitted to develop units in communities with a need for new rental housing as a result of the hurricanes. Applicants must provide documentation describing how the need for the housing is related to the hurricanes, for example, to replace housing that was lost or to provide affordable housing because of the loss of employment in the market area. Applications must be submitted to the Rural Development State office by the closing deadline, where they will be reviewed, scored, and ranked in accordance with 7 CFR part 1944, subpart E. States will provide a list of eligible applications to the National office for nationwide ranking and distribution of funds and RA. If new construction applications exceed the amount of available funds, preference in ranking will be given to applications to develop units in counties with the greatest number of approved disaster housing requests, based on data from the Federal Emergency Management Agency (FEMA).

New construction requests will be scored based on the following factors that are found in 7 CFR part 1944, subpart E:

(a) The presence and extent of leveraged assistance for the units that will serve RHS income-eligible tenants at basic rents comparable to those if RHS provided full financing, computed as a percentage of the RHS total development cost (TDC). RHS TDC excludes non-RHS eligible costs such as a developer's fee. Points will be awarded in accordance with the following table. (0 to 20 points)

Percentage of leveraging | Points
75 or more | 20
70-74 | 19
65-69 | 18
60-64 | 17
55-59 | 16
50-54 | 15
45-49 | 14
40-44 | 13
35-39 | 12
30-34 | 11
25-29 | 10
20-24 | 9
15-19 | 8
10-14 | 7
5-9 | 6
0-4 | 0

(b) The units to be developed are in a colonia, tribal land, EZ, EC, or REAP community, or in a place identified in the State Consolidated Plan or State Needs Assessment as a high need community for multifamily housing. (“State” in “State Consolidated Plan” and “State Needs Assessment” refers to the State government.) (20 points)

(c) The loan request includes donated land meeting the provisions of 7 CFR 1944.215(r)(4). (5 points)

2. Repair of Section 515 Properties or Replacement of Section 515 Units

Funds are available for requests to repair damage to section 515 properties caused by the hurricanes (funds may not be used for other non-hurricane related repair or rehabilitation needs), or to replace section 515 units destroyed by the hurricanes. The applicant must provide documentation that the damage was a result of the hurricanes.

C. Section 521 Rental Assistance (RA) for Needs Resulting From Hurricanes Dennis, Floyd, and Irene

Requests may be submitted for section 521 rental assistance (RA) as follows:

1. Requests for new construction funds may include a request for RA if needed for market feasibility.

2. Requests to repair or replace units may include a request for RA if the RA is needed as a result of the hurricanes, for example, because of a loss of jobs in the area due to hurricane damage.

3. Owners of section 515 properties who are not requesting funds may submit a RA-only request if RA is needed as a result of the hurricanes, for example, to assist tenants who have lost their jobs because of hurricane damage.

II. Funding Limits

Individual loan requests may not exceed $1.5 million.

III. Application Process

All applications for funds and RA must be filed with the appropriate Rural Development State office and must meet the requirements of 7 CFR part 1944, subpart E and section IV of this NOFA. Incomplete applications will not be reviewed and will be returned to the applicant. No application will be accepted after 5:00 p.m., local time, on the application deadline previously mentioned unless the date and time is extended by a Notice published in the Federal Register.

IV. Application Submission Requirements

A. Each application shall include all of the information, materials, forms and exhibits required by 7 CFR part 1944, subpart E, as well as comply with the provisions of this NOFA. Applicants are encouraged, but not required, to include a checklist and to have their applications indexed and tabbed to facilitate the review process. The Rural Development State office will base its determination of completeness of the application and the eligibility of each applicant on the information provided in the application.

B. Applicants are advised to contact the Rural Development State office serving the place in which they desire to submit an application to obtain an application package.

V. Administrator's Reserve Requests

An amount of $6,000,000 and any funds remaining from this NOFA will be placed in the Administrator's reserve and will be available until expended for needs resulting from hurricanes Dennis, Floyd, and Irene. Applications for the reserve must meet the application requirements described in this NOFA and, in addition, must provide documentation describing the reasons they were not able to be submitted by the NOFA deadline, for example, because of site or infrastructure issues. Applications will be reviewed, scored, and ranked by States in accordance with 7 CFR part 1944, subpart E. As applications are received and ranked, States will provide a list to the National Office for nationwide ranking and distribution of funds. The National ranking and distribution of funds will be done at the end of each 60-day period following the close of this NOFA until all funds are expended.

Dated: August 11, 2000.
William Simpson,
Acting Administrator, Rural Housing Service.

[FR Doc. 00-21032 Filed 8-17-00; 8:45 am]

BILLING CODE 3410-XV-P